DEPARTMENT OF DEFENSE

Office of the Secretary

[Docket ID: DoD-2014-OS-0080]

Submission for OMB Review; Comment Request

AGENCY: Office of the Under Secretary of Defense for Personnel & Readiness, DoD.

ACTION: 30-Day information collection notice.

SUMMARY: The Department of Defense has submitted to OMB for clearance the following proposal for collection of information under the provisions of the Paperwork Reduction Act.

DATES: Consideration will be given to all comments received by February 18, 2020.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Angela James, 571-372-7574, or whs.mc-alex.esd.mbx.dd-dod-information-collections@mail.mil.

SUPPLEMENTARY INFORMATION: Title; Associated Form; and OMB Number: Application for Discharge of Member or Survivor of Group Certified to have Performed Active Duty with the Armed Forces of the United States; DD Form 2168; OMB Control Number 0704-0100.

Type of Request: Reinstatement.

Number of Respondents: 500.

Responses per Respondent: 1.

Annual Responses: 500.

Average Burden per Response: 30 minutes.

Annual Burden Hours: 250 hours.

Needs and Uses: The purpose of this information collection is to assist the Secretary of a Military Department or United States Coast Guard (USCG) in determining if an applicant was a member of a group that has been found to have performed active military service. If the information requested on the DD Form 2168, Application for Discharge of Member or Survivor of Member of Group Certified to Have Performed Active Duty with the Armed Forces of the United States, is compatible with that of a corresponding approved group and the applicant can provide supporting evidence, he or she will receive veteran's status in accordance with the provisions of DoD Directive 1000.20, as established by 38 U.S.C. 106. The information from the DD Form 2168 will be extracted by the appropriate military personnel office and used to complete the DD Form 214, “Certificate for Release or Discharge from Active Duty.” The Veterans Administration uses information on the DD Form 2168 to verify benefits eligibility. The form can be electronically accessed and downloaded from the following Defense Link Publication site: http://www.dod.gov/pubs/. The form can be filled out electronically using a computer, or if a computer cannot be used, it can be filled out by a typewriter or printed by hand. The form must be submitted in original copy only, and additional documentation to support the information on the form must be included. The completed application will be mailed to the appropriate Service address listed on the back of the form.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela James.

Requests for copies of the information collection proposal should be sent to Ms. James at whs.mc-alex.esd.mbx.dd-dod-information-collections@mail.mil.

Dated: January 13, 2020.
Aaron T. Siegel,
Alternate OSD Federal Register Liaison Officer, Department of Defense.

[FR Doc. 2020-00699 Filed 1-16-20; 8:45 am]

BILLING CODE 5001-06-P